DEPARTMENT OF TRANSPORTATION

Federal Highway Administration

Notice of Final Federal Actions on the Kosciuszko Bridge (Interstate 278) Over Newtown Creek, Kings and Queens Counties, NY

AGENCY: Federal Highway Administration (FHWA), U.S. Department of Transportation (DOT).

ACTION: Notice of limitation on claims for judicial review of actions by FHWA and other Federal agencies.

SUMMARY: This notice announces actions taken by the FHWA and other Federal agencies that are final within the meaning of 23 U.S.C. 139(l)(1). The actions relate to the proposed highway project and the replacement of the Kosciuszko Bridge over Newtown Creek. Those actions grant licenses, permits, and approvals for the project.

DATES: By this notice, the FHWA is advising the public of the final agency actions subject to 23 U.S.C. 139(l)(1). A claim seeking judicial review of the Federal agency actions on the highway project will be barred unless the claim is filed on or before October 7, 2009. If the federal law that authorizes judicial review of a claim provides a time period less than 180 days for filing such claim, then the shorter time period still applies.

FOR FURTHER INFORMATION CONTACT: Jeffrey Kolb, P.E., Division Administrator, Federal Highway Administration, New York Division, Leo W. O'Brien Federal Building, Suite 719, Clinton Avenue and North Pearl Street, Albany, New York 12207, Telephone: 518-431-4127.

Or

Norik Tatevossian, P.E., Director of Structures, New York State Department of Transportation, Region 11, Hunters Point Plaza, 47-40 21st Street, Long Island City, NY 11101, Telephone: 718-482-4683.

SUPPLEMENTARY INFORMATION: Notice is hereby given that the FHWA, and other Federal agencies have taken their final agency actions subject to 23 U.S.C. 139(l)(1) by issuing licenses, permits, and approvals for the following highway project in the State of New York: The Kosciuszko Bridge (Interstate 278) over Newtown Creek, Kings and Queens Counties. The preferred environmental alternative replaces the existing bridge, building a new permanent, parallel bridge on the eastbound (Queens-bound) side of the existing bridge. The new bridge will be built at a lower elevation to allow for reduced grades. When completed, the Kosciuszko Bridge will include auxiliary lanes in both directions, carrying five lanes of eastbound traffic and four lanes of westbound traffic, and have standard lane widths and shoulders. The new bridge will also include a bikeway/walkway on the north side of the bridge. The selected alternative provides superior safety, operational, and structural improvements compared with the other build alternatives, while minimizing adverse social, economic, and environmental impacts to the extent practicable.

The new bridge will be constructed at a lower elevation, decreasing the vertical clearance over Newtown Creek from 38 m (125′-0″) to approximately 27 m (88′-6″), to improve traffic safety and operations on the bridge by decreasing the steep roadway grades. The reduced grades will significantly improve the vertical stopping sight distance on the main span of the bridge, meeting the current interstate highway standard. As described in the Final EIS, constructing the new bridge 11 m (36 ft) lower than the existing bridge will not impede maritime traffic on the creek. The project will also include the construction of a new bikeway/walkway on the north side of the westbound (Brooklyn-bound) structure and substantial increases in both the quality and quantity of parkland (with both active and passive recreation features) in the project area, between four and five times over existing park space. Other mitigation measures include streetscaping enhancements along all streets to be reconstructed as part of the project, including new tree plantings, reconstructed sidewalks, new street lighting, improved crosswalks, and better pedestrian sightlines. In addition, boat launches for small, non-motorized boats on each side of Newtown Creek will be provided.

The actions taken by the Federal agencies, and the laws under which such actions were taken, are described in the Final Environmental Impact Statement (FEIS) issued on November 25, 2008 and in the FHWA Record of Decision (ROD) issued on March 3, 2009. The FEIS, ROD, and other project records are available by contacting the FHWA or the New York State Department of Transportation at the addresses provided above, or they can be viewed and downloaded at the project Web site (https://www.nysdot.gov/regional-offices/region11/projects/kosciuszko-bridge-project), or viewed at public libraries in the project area.

This notice applies to all Federal agency decisions related to the replacement of the Kosciuszko Bridge over Newtown Creek project as of the issuance date of this notice and all laws under which such actions were taken, including but not limited to:

1. National Environmental Policy Act [42 U.S.C. 4321-4351].

2. Federal-Aid Highway Act [23 U.S.C. 109 and 23 U.S.C. 128].

3. Clean Air Act [42 U.S.C. 7401-7671(q)].

4. Section 4(f) of the Department of Transportation Act of 1966 [49 U.S.C. 303].

5. Endangered Species Act [16 U.S.C. 1531-1544 and Section 1536].

6. Fish and Wildlife Coordination Act [16 U.S.C. 661-667(d)].

7. Migratory Bird Treaty Act [16 U.S.C. 703-712].

8. Section 106 of the National Historic Preservation Act of 1966, as amended [16 U.S.C. 470(f) et seq.].

9. Civil Rights Act of 1964 [42 U.S.C. 2000(d)-2000(d)(1)].

10. Farmland Protection Policy Act [7 U.S.C. 4201-4209].

11. Wetlands and Water Resources: Clean Water Act (Section 404, Section 401, Section 319) [33 U.S.C. 1251-1377]

12. Land and Water Conservation Fund [16 U.S.C. 4601-4604].

13. Rivers and Harbors Act of 1899 [33 U.S.C. 401-406].

14. Executive Order 11990 Protection of Wetlands.

15. Executive Order 11988 Floodplain Management.

16. Executive Order 12898, Federal Actions to Address Environmental Justice Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on April 2, 2009.
Jeffrey W. Kolb,
Division Administrator, Federal Highway Administration, Albany, New York.

[FR Doc. E9-8191 Filed 4-9-09; 8:45 am]

BILLING CODE 4910-RY-P